DEPARTMENT OF COMMERCE

Foreign-Trade Zones Board

[B-62-2014]

Foreign-Trade Zone 75—Phoenix, Arizona; Notification of Proposed Production Activity; Orbital Sciences Corporation (Satellites and Space Craft Launch Vehicles), Gilbert, Arizona

Orbital Sciences Corporation (OSC), an operator of Foreign-Trade Zone (FTZ) 75, submitted a notification of proposed production activity to the FTZ Board for its facility in Gilbert, Arizona, within FTZ 75. The notification conforming to the requirements of the regulations of the FTZ Board (15 CFR 400.22) was received on August 28, 2014.

OSC already has authority to produce satellites and space craft launch vehicles within Site 10 of FTZ 75. The current request would add a foreign component (aluminum cable tie mounts) to the scope of authority. Pursuant to 15 CFR 400.14(b), additional FTZ authority would be limited to the specific foreign-status materials/components and specific finished products described in the submitted notification (as described below) and subsequently authorized by the FTZ Board.

Production under FTZ procedures could exempt OSC from customs duty payments on the foreign status materials/components used in export production. On its domestic sales, OSC would be able to choose the duty rate during customs entry procedures that applies to finished satellites and space craft launch vehicles (free) for the foreign status aluminum cable tie mounts and the components in the existing scope of authority. Customs duties also could possibly be deferred or reduced on foreign status production equipment.

Public comment is invited from interested parties. Submissions shall be addressed to the FTZ Board's Executive Secretary at the address below. The closing period for their receipt is October 20, 2014.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

FOR FURTHER INFORMATION CONTACT: Pierre Duy at Pierre.Duy@trade.gov, or (202) 482-1378.

Dated: September 3, 2014.
Andrew McGilvray,
Executive Secretary.

[FR Doc. 2014-21462 Filed 9-8-14; 8:45 am]

BILLING CODE 3510-DS-P